DEPARTMENT OF JUSTICE

Notice of Lodging of Settlement Agreement Under the Comprehensive Environmental Response, Compensation and Liability Act and Chapter 11 of the United States Bankruptcy Code

Notice is hereby given that on April 11, 2003, a proposed Settlement Agreement (“Agreement”) in In re Kmart Corp., et al., Case No. 02-02474, was lodged with the United States Bankruptcy Court for the Northern District of Illinois, Eastern Division. The Agreement is between Kmart Corporation and its affiliated debtors and debtors-in-possession (collectively, the “Debtors”) and the United States, on behalf of the United States Environmental Protection Agency (“EPA”), the United States Department of the Interior, and the National Oceanic and Atmospheric Administration of the United States Department of Commerce. The Agreement relates to liabilities of the Debtors under the Comprehensive Environmental Response, Compensation and Liability Act of 1980, as amended, 42 U.S.C. 9601 et seq.

Under the Agreement, the United States, on behalf of EPA, would receive:

• Allowed secured claims totaling $579,151 for the following five sites: The Beede Waste Oil site (Plaistow, New Hampshire); the Florida Petroleum Reprocessors site (Davie, Florida); the Hows Corner site (Plymouth, Maine); the Jack Goins site (Cleveland, Tennessee); and the Lenz Oil Services site (DuPage County, Illinois);

• Allowed unsecured claims totaling $171,744 for the following five sites: The Arkwright Dump site (Spartanburg, South Carolina); the Bill Johns Waste Oil site (Jacksonville, Florida) (with respect to response costs incurred before November 21, 2001); the Delatte Metals site (Ponchatoula, Louisiana); the Operating Industries, Inc. Landfill site (Monterey Park, California); and the Tulalip Landfill (Marysville, Washington); and

• A right to seek cost recovery in the future in connection with Operable Unit 2 of the Peterson Puritan site (Cumberland, Rhode Island), with up to $506,500 of such cost recovery payable as an allowed secured claim and any amount over that payable as an allowed unsecured claim.

The Agreement further provides as follows:

• For Debtor-owned sites, environmental claims and actions by the United States are not discharged;

• For the following nine sites, environmental claims by the United States are discharged, to the extent the claims arise from the Debtors' conduct before the bankruptcy action: Adkins Branch Tire Dump (Putnam County, West Virginia); the Bufkin Store Lead site (Tabor City, North Carolina); the Chadbourn Battery site (Chadbourn, North Carolina); the Guyton Battery site (Chadbourn, North Carolina); the Jimmy Green Metals site (Nashville, North Carolina); the Odum Bufkin Battery site (Green Sea, South Carolina); the Old Stake Road Lead site (Chadbourn, North Carolina); the Petroleum Conservation, site (a/k/a the U.S. Oil, Two Rivers site) (Two Rivers, Wisconsin); and the Vinegar Hill Battery site (a/k/a the Williams store site) (Tabor City, North Carolina); and

• For all other sites, the United States may not issue or seek environmental orders based on the Debtors' conduct before the bankruptcy action, but may recover response costs and natural resource damages based on such conduct, as if the United States' claims had been allowed unsecured claims under the Debtors' reorganization plan.

For a period of 30 days from the date of this publication, the Department of Justice will receive comments relating to the Agreement. Comments should be addressed to the Assistant Attorney General, Environment and Natural Resources Division, PO Box 7611, U.S. Department of Justice, Washington, DC 20044, and should refer to In re Kmart Corp., et al., Case No. 02-02474, D.J. Ref. No. 90-11-2-07845.

The Agreement may be examined at the Office of the United States Attorney, 219 South Dearborn Street, Suite 2001, Chicago, Illinois 60604, and at the United States Environmental Protection Agency, Ariel Rios Building, 1200 Pennsylvania Avenue, NW., Washington, DC 20460. During the public comment period, the Agreement may also be examined on the following Department of Justice Web site, http://www.usdoj.gov/enrd/open.html. A copy of the Agreement may also be obtained by mail from the Consent Decree Library, P.O. Box 7611, U.S. Department of Justice, Washington, DC 20044, or by faxing or e-mailing a request to Tonia Fleetwood (tonia.fleetwood@usdoj.gov), fax number (202) 514-0097, phone confirmation number (202) 514-1547. In requesting a copy from the Consent Decree Library, please enclose a check in the amount of $7.00 (25 cents per page reproduction cost) payable to the United States Treasury.

William Brighton,
Assistant Chief, Environmental Enforcement Section, Environment and Natural Resources Division.

[FR Doc. 03-10085 Filed 4-23-03; 8:45 am]

BILLING CODE 4410-15-M